DEPARTMENT OF LABOR

Employment and Training Administration

[TA-W-62,638]

Thomasville Furniture Industries, Inc. Corporate Office, a Subsidiary of Furniture Brands International, Inc., Thomasville Furniture Industries, Inc. Central Office, Thomasville, NC; Amended Certification Regarding Eligibility To Apply for Worker Adjustment Assistance and Alternative Trade Adjustment Assistance

In accordance with Section 223 of the Trade Act of 1974, as amended (19 U.S.C. 2273), the Department of Labor issued a Certification of Eligibility to Apply for Worker Adjustment Assistance on February 11, 2008, applicable to workers of Thomasville Furniture Industries, Corporate Office, Thomasville, North Carolina. The notice was published in the Federal Register on February 29, 2008 (73 FR 11153).

At the request of the State agency, the Department reviewed the certification for workers of the subject firm. The workers provide administrative support.

Information shows that Furniture Brands International, Inc. is the parent firm of Thomasville Furniture Industries, Inc. Workers wages at the subject firm are being reported under the Unemployment Insurance (UI) tax account for Furniture Brands International, Inc.

Accordingly, the Department is amending this certification to properly reflect this matter.

The intent of the Department's certification is to include all workers of the subject firm who were adversely affected by the increased company imports of upholstered furniture by an affiliated facility whose workers were certified eligible to apply for adjustment assistance.

The amended notice applicable to TA-W-62,638 is hereby issued as follows:

All workers of Thomasville Furniture, Corporate Office, a subsidiary of Furniture Brands International, Inc., Thomasville Furniture Industries, Inc., Central Office, Thomasville, North Carolina, who became totally or partially separated from employment on or after December 30, 2007 through February 11, 2010 are eligible to apply for adjustment assistance under Section 223 of the Trade Act of 1974, and are also eligible to apply for alternative trade adjustment assistance under Section 246 of the Trade Act of 1974.

Signed at Washington, DC this 20th day of October 2009.
Elliott S. Kushner,
Certifying Officer, Division of Trade Adjustment Assistance.

[FR Doc. E9-27015 Filed 11-9-09; 8:45 am]

BILLING CODE 4510-FN-P